DEPARTMENT OF TRANSPORTATION

Federal Aviation Administration

14 CFR Part 39

[Docket No. 99-NM-251-AD]

RIN 2120-AA64

Airworthiness Directives; Airbus Industrie Model A300, A300-600, and A310 Series Airplanes

AGENCY: Federal Aviation Administration, DOT.

ACTION: Notice of proposed rulemaking (NPRM).

SUMMARY: This document proposes the supersedure of an existing airworthiness directive (AD), applicable to certain Airbus Industrie Model A300, A300-600, and A310 series airplanes, that currently requires inspections to detect cracks in the lower spar axis of the pylons between ribs 6 and 7, and repair, if necessary. For certain Model A310 series airplanes, this action would reduce the currently required inspection thresholds and intervals, and would remove an option for a terminating modification. This proposal is prompted by issuance of mandatory continuing airworthiness information by a foreign civil airworthiness authority. The actions specified by the proposed AD are intended to prevent such fatigue cracking, which could result in reduced structural integrity of the engine pylon's lower spar, and possible separation of the engine from the airplane.

DATES: Comments must be received by March 15, 2000.

ADDRESSES: Submit comments in triplicate to the Federal Aviation Administration (FAA), Transport Airplane Directorate, ANM-114, Attention: Rules Docket No. 99-NM-251-AD, 1601 Lind Avenue, SW., Renton, Washington 98055-4056. Comments may be inspected at this location between 9:00 a.m. and 3:00 p.m., Monday through Friday, except Federal holidays.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 99-NM-251-AD.” The postcard will be date stamped and returned to the commenter.

Availability of NPRMs

Any person may obtain a copy of this NPRM by submitting a request to the FAA, Transport Airplane Directorate, ANM-114, Attention: Rules Docket No. 99-NM-251-AD, 1601 Lind Avenue, SW., Renton, Washington 98055-4056.

Discussion

On May 15, 1996, the FAA issued AD 96-11-05, amendment 39-9630 (61 FR 26091, May 24, 1996), applicable to certain Airbus Industrie Model A300, A300-600, and A310 series airplanes, to require inspections to detect cracks in the lower spar axis of the pylons between ribs 6 and 7, and repair, if necessary. That action was prompted by a report that fatigue cracks were found in the lower spar of the pylon between ribs 6 and 7 on airplanes equipped with General Electric and Pratt and Whitney engines. These cracks initiated at the pylon center stiffener beyond the flat area. The requirements of that AD are intended to prevent such fatigue cracking, which could result in reduced structural integrity of the lower spar of the pylon.

Actions Since Issuance of Previous Rule

Since the issuance of AD 96-11-05, the Direction Générale de l'Aviation Civile (DGAC), which is the airworthiness authority for France, has advised the FAA that certain in-service events have necessitated a revised inspection program for Airbus Model A310 series airplanes. The DGAC informed the FAA that, as a result of these in-service events, accomplishment of Airbus Service Bulletin A310-54-2023, dated October 15, 1993, is no longer appropriate terminating action for the inspection requirements of AD 96-11-05 for affected Model A310 series airplanes. (That service bulletin is cited in AD 96-11-05 as the appropriate source of service information for accomplishment of the modification that terminates the requirement for the internal eddy current inspections for those Model A310 series airplanes.) However, compliance with that service bulletin would extend the inspection thresholds and repetitive intervals for Model A310 series airplanes.

Explanation of Relevant Service Information

Airbus Industrie has issued Service Bulletin A310-54-2017, Revision 03, dated June 11, 1999, which describes procedures for repetitive eddy current inspections of the engine pylon lower spar for cracks, and repair of any crack. For Model A310 series airplanes, Revision 03 reduces the recommended compliance times and repetitive inspection intervals. Revision 03 also specifies additional inspection thresholds and intervals for Model A310 series airplanes on which modification of the lower ribs and spar between ribs 6 and 7 has been accomplished as specified in Airbus Service Bulletin A310-54-2023, dated October 15, 1993. The DGAC classified Service Bulletin A310-54-2017, Revision 03, as mandatory and issued French airworthiness directive 1999-239-287(B), dated June 2, 1999, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 96-11-05 to continue to require inspections to detect cracks in the lower spar axis of the engine pylons for Airbus Model A300 and A300-600 series airplanes, and to require accomplishment of the actions specified in Airbus Service Bulletin A310-54-2017, Revision 03, for Model A310 series airplanes.

Cost Impact

There are approximately 146 airplanes of U.S. registry that would be affected by this proposed AD.

The requirements of this proposed AD would not add any new additional economic burden on affected operators, other than the costs that are associated with accomplishing inspections for certain airplanes at an earlier time than would have been required by AD 96-11-05. The current costs associated with this AD are reiterated (as follows) for the convenience of affected operators.

The inspections that are currently required by AD 96-11-05, and retained in this AD, take approximately 8 work hours per airplane to accomplish, at an average labor rate of $60 per work hour. Based on these figures, the cost impact of the currently required actions on U.S. operators is estimated to be $480 per airplane, per inspection cycle.

Regulatory Impact

The regulations proposed herein would not have substantial direct effects on the States, on the relationship between the national government and the States, or on the distribution of power and responsibilities among the various levels of government. Therefore, in accordance with Executive Order 12612, it is determined that this proposal would not have sufficient federalism implications to warrant the preparation of a Federalism Assessment.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-9630 (61 FR 26091, May 24, 1996), and by adding a new airworthiness directive (AD), to read as follows:

Airbus Industrie: Docket 99-NM-251-AD. Supersedes AD 96-11-05, Amendment 39-9630.

Applicability: The following models, certificated in any category:

• Model A300 and A300-600 series airplanes, as listed in Airbus Service Bulletins A300-54-0073 and A300-54-6014, both Revision 1, dated March 28, 1994; and

• Model A310 series airplanes, except those on which Airbus Modification 10149 has been accomplished.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (m)(1) of this AD. The request should include an assessment of the effect of the modification, alteration, or repair on the unsafe condition addressed by this AD; and, if the unsafe condition has not been eliminated, the request should include specific proposed actions to address it.

Compliance: Required as indicated, unless accomplished previously.

To prevent fatigue cracking, which could result in reduced structural integrity of the engine pylon's lower spar and possible separation of the engine from the airplane, accomplish the following:

Restatement of Certain Requirements of AD 96-11-05

Eddy Current Inspections

(a) For Model A300 series airplanes equipped with General Electric CF6-50C engines, and having pylons that have not been modified in accordance with Airbus Industrie Service Bulletin A300-54-0080, Revision 1, dated January 16, 1995: Prior to the accumulation of 10,900 total landings, or within 500 landings after June 28, 1996 (the effective date of AD 96-11-05, amendment 39-9630), whichever occurs later, perform an internal eddy current inspection to detect cracks in the lower spar axis of the pylons between ribs 6 and 7, in accordance with Airbus Industrie Service Bulletin A300-54-0073, Revision 1, dated March 28, 1994.

(1) If no crack is found, repeat the inspection thereafter at intervals not to exceed 6,700 landings.

(2) If any crack is found that is less than 35 millimeters (1.38 inches), prior to further flight, stop-drill the crack in accordance with the procedures specified in Section 51-41-10 of the Structural Repair Manual (SRM). Thereafter, prior to the accumulation of 250 landings after crack discovery, repair in accordance with the service bulletin. Prior to the accumulation of 17,900 landings after accomplishing the repair, perform an eddy current inspection to detect cracks at the stiffener ends, ribs 6 and 7, at the edge of the holes made during the repair and on the fasteners located at the edge of the doubler, in accordance with the service bulletin.

(i) If no crack is found, repeat the inspection required by paragraph (a)(2) of this AD thereafter at intervals not to exceed 15,000 landings.

(ii) If any crack is found, prior to further flight, repair in accordance with a method approved by the Manager, International Branch, ANM-116, FAA, Transport Airplane Directorate; or the Direction Générale de l'Aviation Civile (DGAC) (or its delegated agent).

(3) If any crack is found that is greater than or equal to 35 mm (1.38 in.), prior to further flight, repair in accordance with a method approved by the Manager, International Branch, ANM-116; or the DGAC (or its delegated agent).

(b) For Model A300 series airplanes equipped with General Electric CF6-50C engines, and having pylons that have been modified in accordance with Airbus Industrie Service Bulletin A300-54-0080, Revision 1, dated January 16, 1995: Prior to the accumulation of 30,300 landings since installation of the modification, or within 500 landings after June 28, 1996, whichever occurs later, perform an eddy current inspection to detect cracks in the lower spar axis of the pylons between ribs 6 and 7, in accordance with Airbus Industrie Service Bulletin A300-54-0073, Revision 1, dated March 28, 1994.

(1) If no crack is found, repeat the eddy current inspection thereafter at intervals not to exceed 21,300 landings.

(2) If any crack is found, prior to further flight, repair in accordance with a method approved by the Manager, International Branch, ANM-116; or the DGAC (or its delegated agent).

(c) For Model A300 series airplanes equipped with Pratt & Whitney JT9D-59A engines, and having pylons that have not been modified in accordance with Airbus Industrie Service Bulletin A300-54-0080, Revision 1, dated January 16, 1995: Prior to the accumulation of 8,600 total landings, or within 500 landings after June 28, 1996, whichever occurs later, perform an internal eddy current inspection to detect cracks in the lower spar axis of the pylons between ribs 6 and 7, in accordance with Airbus Industrie Service Bulletin A300-54-0073, Revision 1, dated March 28, 1994.

(1) If no crack is found, repeat the inspection thereafter at intervals not to exceed 5,700 landings.

(2) If any crack is found that is less than 35 mm (1.38 in.), prior to further flight, stop-drill the crack in accordance with the procedures specified in Section 51-41-10 of the SRM. Thereafter, prior to the accumulation of 250 landings after crack discovery, repair in accordance with the service bulletin. Prior to the accumulation of 14,200 landings after accomplishing the repair, perform an eddy current inspection to detect cracks at the stiffener ends, ribs 6 and 7, at the edge of the holes made during the repair and on the fasteners located at the edge of the doubler, in accordance with the service bulletin.

(i) If no crack is found, repeat the inspection required by paragraph (c)(2) of this AD thereafter at intervals not to exceed 12,800 landings.

(ii) If any crack is found, prior to further flight, repair in accordance with a method approved by the Manager, International Branch, ANM-116; or by the DGAC (or its delegated agent).

(3) If any crack is found that is greater than or equal to 35 mm (1.38 in.), prior to further flight, repair in accordance with a method approved by the Manager, International Branch, ANM-116; or the DGAC (or its delegated agent).

(d) For Model A300 series airplanes equipped with Pratt & Whitney JT9D-59A engines, and having pylons that have been modified in accordance with Airbus Industrie Service Bulletin A300-54-0080, Revision 1, dated January 16, 1995: Prior to the accumulation of 24,000 landings since installation of the modification, or within 500 landings after June 28, 1996, whichever occurs later, perform an eddy current inspection to detect cracks in the lower spar axis of the pylons between ribs 6 and 7, in accordance with Airbus Industrie Service Bulletin A300-54-0073, Revision 1, dated March 28, 1994.

(1) If no crack is found, repeat the eddy current inspection thereafter at intervals not to exceed 18,200 landings.

(2) If any crack is found, prior to further flight, repair in accordance with a method approved by the Manager, International Branch, ANM-116; or the DGAC (or its delegated agent).

(e) For Model A300-600 series airplanes equipped with General Electric CF6-80C2 engines, and having pylons that have not been modified in accordance with Airbus Industrie Service Bulletin A300 54-6020, dated February 22, 1994: Prior to the accumulation of 9,400 total landings, or within 500 landings after June 28, 1996, whichever occurs later, perform an internal eddy current inspection to detect cracks in the lower spar axis of the pylons between ribs 6 and 7, in accordance with Airbus Industrie Service Bulletin A300-54-6014, Revision 1, dated March 28, 1994.

(1) If no crack is found, repeat the inspection thereafter at intervals not to exceed 6,100 landings.

(2) If any crack is found that is less than or equal to 35 mm (1.38 in.), prior to further flight, stop-drill the crack in accordance with the procedures specified in Section 51-41-10 of the SRM. Thereafter, prior to the accumulation of 250 landings after crack discovery, repair in accordance with the service bulletin. Prior to the accumulation of 15,600 landings after accomplishing the repair, perform an eddy current inspection to detect cracks at the stiffener ends, ribs 6 and 7, at the edge of the holes made during the repair and on the fasteners located at the edge of the doubler, in accordance with the service bulletin.

(i) If no crack is found, repeat the inspection required by paragraph (e)(2) of this AD thereafter at intervals not to exceed 13,600 landings.

(ii) If any crack is found, prior to further flight, repair in accordance with a method approved by the Manager, International Branch, ANM-116; or the DGAC (or its delegated agent).

(3) If any crack is found that is greater than or equal to 35 mm (1.38 in.), prior to further flight, repair in accordance with a method approved by the Manager, International Branch, ANM-116; or the DGAC (or its delegated agent).

(f) For Model A300-600 series airplanes equipped with General Electric CF6-80C2 engines, and having pylons that have been modified in accordance with Airbus Industrie Service Bulletin A300-54-6020, dated February 22, 1994: Prior to the accumulation of 26,400 landings since installation of the modification, or within 500 landings after June 28, 1996, whichever occurs later, perform an eddy current inspection to detect cracks in the lower spar axis of the pylons between ribs 6 and 7, in accordance with Airbus Industrie Service Bulletin A300-54-6014, Revision 1, dated March 28, 1994.

(1) If no crack is found, repeat the eddy current inspection thereafter at intervals not to exceed 19,400 landings.

(2) If any crack is found, prior to further flight, repair in accordance with a method approved by the Manager, International Branch, ANM-116; or the DGAC (or its delegated agent).

(g) For Model A300-600 series airplanes equipped with Pratt & Whitney JT9D-7R4 or PW 4000 engines, and having pylons that have not been modified in accordance with Airbus Industrie Service Bulletin A300-54-6020, dated February 22, 1994: Prior to the accumulation of 5,700 total landings, or within 500 landings after June 28, 1996, whichever occurs later, perform an internal eddy current inspection to detect cracks in the lower spar axis of the pylons between ribs 6 and 7, in accordance with Airbus Industrie Service Bulletin A300-54-6014, Revision 1, dated March 28, 1994.

(1) If no crack is found, repeat the inspection thereafter at intervals not to exceed 4,400 landings.

(2) If any crack is found that is less than 35 mm (1.38 in.), prior to further flight, stop-drill the crack in accordance with the procedures specified in Section 51-41-10 of the SRM. Thereafter, prior to the accumulation of 250 landings after crack discovery, repair in accordance with the service bulletin. Prior to the accumulation of 10,100 landings after accomplishing the repair, perform an eddy current inspection to detect cracks at the stiffener ends, ribs 6 and 7, at the edge of the holes made during the repair and on the fasteners located at the edge of the doubler, in accordance with the service bulletin.

(i) If no crack is found, repeat the inspection required by paragraph (g)(2) of this AD thereafter at intervals not to exceed 10,000 landings.

(ii) If any crack is found, prior to further flight, repair in accordance with a method approved by the Manager, International Branch, ANM-116; or the DGAC (or its delegated agent).

(3) If any crack is found that is greater than or equal to 35 mm (1.38 in.), prior to further flight, repair in accordance with a method approved by the Manager, International Branch, ANM-116; or the DGAC (or its delegated agent).

(h) For Model A300-600 series airplanes equipped with Pratt & Whitney JT9D-7R4 or PW 4000 engines, and having pylons that have been modified in accordance with Airbus Industrie Service Bulletin A300-54-6020, dated February 22, 1994: Prior to the accumulation of 17,000 landings since installation of the modification, or within 500 landings after June 28, 1996, whichever occurs later, perform an eddy current inspection to detect cracks in the lower spar axis of the pylons between ribs 6 and 7, in accordance with Airbus Industrie Service Bulletin A300-54-6014, Revision 1, dated March 28, 1994.

(1) If no crack is found, repeat the eddy current inspection thereafter at intervals not to exceed 14,500 landings.

(2) If any crack is found, prior to further flight, repair in accordance with a method approved by the Manager, International Branch, ANM-116; or the DGAC (or its delegated agent).

New Requirements of This AD

New and Repetitive Inspections for Model A310 Series Airplanes

(i) For Model A310 series airplanes on which the modification specified in Airbus Service Bulletin A310-54-2023, dated October 15, 1993, has not been accomplished: Perform an eddy current inspection to detect cracks in the lower spar axis of the pylons between ribs 6 and 7, in accordance with Airbus Service Bulletin A310-54-2017, Revision 03, dated June 11, 1999, at the applicable time specified in paragraph (i)(1), (i)(2), or (i)(3) of this AD.

(1) For airplanes that have accumulated fewer than 10,000 total landings as of the effective date of this AD: Inspect prior to the accumulation of 7,000 total landings, or within 1,500 landings after the effective date of the AD, whichever occurs later.

(2) For airplanes that have accumulated 10,000 total landings or more and fewer than 20,000 total landings as of the effective date of this AD: Inspect within 1,000 landings after the effective date of this AD.

(3) For airplanes that have accumulated 20,000 total landings or more as of the effective date of this AD: Inspect within 500 landings after the effective date of this AD.

(j) If no crack is found during the inspection required by paragraph (i) of this AD, accomplish the actions specified by either paragraph (j)(1) or (j)(2) of this AD.

(1) Repeat the inspection thereafter at intervals not to exceed 6,400 landings. Or

(2) Prior to further flight, modify the lower spar between ribs 6 and 7 in accordance with Airbus Service Bulletin A310-54-2023, dated October 15, 1993, and thereafter accomplish the actions required by paragraph (l) of this AD.

(k) If any crack is found during any inspection required by paragraph (i) or (j) of this AD, accomplish the actions required by paragraph (k)(1) or (k)(2) of this AD, as applicable.

(1) If the crack is less than 35 mm (1.38 in.), prior to further flight, repair in accordance with Airbus Service Bulletin A310-54-2017, Revision 03, dated June 11, 1999. Thereafter, within 13,600 landings after accomplishing the repair, perform an eddy current inspection to detect cracks at the stiffener ends, ribs 6 and 7, at the edge of the holes made during the repair, and on the fasteners located at the end of the doubler, in accordance with the service bulletin.

(i) If no crack is found during the inspection required by paragraph (k)(1) of this AD, repeat the inspection required by paragraph (i) of this AD thereafter at intervals not to exceed 11,600 landings.

(ii) If any crack is found during the inspection required by paragraph (k)(1) of this AD, prior to further flight, repair in accordance with a method approved by the Manager, International Branch, ANM-116; or the DGAC (or its delegated agent).

(2) If the crack is equal to or greater than 35 mm (1.38 in.), prior to further flight, repair in accordance with a method approved by the Manager, International Branch, ANM-116; or the DGAC (or its delegated agent).

(l) For Model A310 series airplanes on which the modification specified in Airbus Service Bulletin A310-54-2023, dated October 15, 1993, has been accomplished: Within 23,000 landings after accomplishment of the modification, or within 90 days after the effective date of this AD, whichever occurs later, perform an eddy current inspection to detect cracks in the lower spar axis of the pylons between ribs 6 and 7, in accordance with Airbus Service Bulletin A310-54-2017, Revision 03, dated June 11, 1999.

(1) If no crack is found, repeat the inspection thereafter at intervals not to exceed 15,500 landings.

(2) If any crack is found during any inspection required by paragraph (l) or (l)(1) of this AD, prior to further flight, repair in accordance with a method approved by the Manager, International Branch, ANM-116; or the DGAC (or its delegated agent).

Alternative Methods of Compliance

(m)(1) An alternative method of compliance or adjustment of the compliance time that provides an acceptable level of safety may be used if approved by the Manager, International Branch, ANM-116. Operators shall submit their requests through an appropriate FAA Principal Maintenance Inspector, who may add comments and then send it to the Manager, International Branch, ANM-116.

(2) Alternate methods of compliance approved previously in accordance with AD 96-11-05, Amendment 39-9630, for paragraphs (a) through (h) of that AD, are approved as alternative methods of compliance with paragraphs (a) through (h) of this AD.

Note 2: Information concerning the existence of approved alternative methods of compliance with this AD, if any, may be obtained from the International Branch, ANM-116.

Special Flight Permits

(n) Special flight permits may be issued in accordance with §§ 21.197 and 21.199 of the Federal Aviation Regulations (14 CFR 21.197 and 21.199) to operate the airplane to a location where the requirements of this AD can be accomplished.

Note 3: The subject of this AD is addressed in French airworthiness directive 1999-239-287(B), dated June 2, 1999.

Issued in Renton, Washington, on February 8, 2000.
Donald L. Riggin,
Acting Manager, Transport Airplane Directorate, Aircraft Certification Service.

[FR Doc. 00-3397 Filed 2-11-00; 8:45 am]

BILLING CODE 4910-13-P